DEPARTMENT OF COMMERCE

National Oceanic and Atmospheric Administration

RTID 0648-XE839]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's Spiny Dogfish Monitoring Committee will hold a public webinar meeting.

DATES: The meeting will be held on Friday, May 2, 2025, from 8 a.m. to 10 a.m. For agenda details, see SUPPLEMENTARY INFORMATION.

ADDRESSES: The meeting will be held via webinar. Connection information and any related materials will be posted to the MAFMC's website calendar prior to the meeting at www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The Spiny Dogfish Monitoring Committee will meet to develop recommendations regarding alternatives and analyses for a framework action that is considering modifications to payback accountability measures when spiny dogfish annual catch limits (ACLs) are exceeded. More information on this framework action is available at https://www.mafmc.org/actions/spiny-dogfish-accountability-measures-fw. Public comments will also be taken.

Special Accommodations

The meeting is physically accessible to people with disabilities. Requests for sign language interpretation or other auxiliary aid should be directed to Shelley Spedden, (302) 526-5251, at least 5 days prior to the meeting date.

Authority: 16 U.S.C. 1801 et seq.

Dated: April 11, 2025.
Rey Israel Marquez,
Acting Deputy Director, Office of Sustainable Fisheries, National Marine Fisheries Service.

[FR Doc. 2025-06553 Filed 4-16-25; 8:45 am]

BILLING CODE 3510-22-P